DEPARTMENT OF ENERGY

Federal Energy Regulatory Commission

[Docket No. JR02-1-000]

Arch Ford; Notice of Availability of Draft Navigation Study

March 20, 2003.

Pursuant to section 23(b)(1) of the Federal Power Act, 16 U.S.C. 817(1), a non-federal hydroelectric project must (unless it has a still-valid pre-1920 federal permit) be licensed if it is located on a navigable water of the United States; occupies lands of the United States; utilizes surplus water or water power from a government dam; or is located on a body of water over which Congress has Commerce Clause jurisdiction; project construction occurred on or after August 26, 1935, and the project affects the interests of interstate or foreign commerce. The Division of Hydropower Administration and Compliance has reviewed North Fork Nooksack River, location of the unlicensed Nooksack Falls Project, near the town of Glacier, in Whatcom County, Washington, and prepared a draft “Navigation Status Report: North Fork Nooksack River, Washington” (August 2002). This project, owned by Arch Ford, will also utilize federal lands within Mt. Baker-Snoqualmie National Forest.

Copies of the draft navigation report are available for review at the Commission in the Public Reference Room or may be viewed on the Commission's Web site at http://www.ferc.gov using the “FERRIS” link. Enter the docket number JR02-1, excluding the last three digits in the docket number field, to access the document. For assistance, call toll-free 1-866-208-3676. For TTY, call (202) 502-8659

Any comments (original and eight copies) should be filed within 30 days from the date of this notice and should be filed with: Magalie R. Salas, Secretary, Federal Energy Regulatory Commission, 888 First Street, NE., Washington DC 20426. Please include the docket number (JR02-1-000) on any comments. For further information, please contact Henry Ecton at (202) 502-8768.

Magalie R. Salas,
Secretary.

[FR Doc. 03-7324 Filed 3-26-03; 8:45 am]

BILLING CODE 6717-01-P